DEPARTMENT OF THE TREASURY

Agency Information Collection Activities; Submission for OMB Review; Comment Request; Multiple Fiscal Service Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 24, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Service (FS)

1. Title: Claim Against the United States for the Proceeds of a Government Check.

OMB Control Number: 1530-0010.

Type of Review: Extension without change of a currently approved collection.

Description: The forms are used to collect information needed to process an individual's claim for non-receipt of proceeds from a U.S. Treasury check. Once the information is analyzed, a determination is made and a recommendation is submitted to the program agency to either settle or deny the claim.

Form: FS Form 1133 and FS Form 1133-A.

Affected Public: Individuals or households.

Estimated Number of Respondents: 51,640.

Frequency of Response: On Occasion.

Estimated Total Number of Annual Responses: 51,640.

Estimated Time per Response: 10 minutes.

Estimated Total Annual Burden Hours: 8,609 hours.

2. Title: Special Form of Assignment for U.S. Registered Securities.

OMB Control Number: 1530-0058.

Type of Review: Extension without change of a currently approved collection.

Description: FS Form 1832 is used by owners, or authorized representatives, to complete transactions involving the assignment of U.S. Registered and Bearer Securities.

Form: FS Form 1832.

Affected Public: Individuals or households.

Estimated Number of Respondents: 10.

Frequency of Response: On Occasion.

Estimated Total Number of Annual Responses: 10.

Estimated Time per Response: 15 minutes.

Estimated Total Annual Burden Hours: 2.5 hours.

3. Title: Disclaimer and Consent With Respect To United States Savings Bonds/Notes.

OMB Control Number: 1530-0059.

Type of Review: Extension without change of a currently approved collection.

Description: A disclaimer and consent may be necessary when, as the result of an error in registration or otherwise, the payment, refund of purchase price, or reissue of savings bonds/notes as requested by one person would appear to affect the right, title or interest of some other person.

Form: FS Form 1849.

Affected Public: Individuals or households.

Estimated Number of Respondents: 450.

Frequency of Response: On Occasion.

Estimated Total Number of Annual Responses: 450.

Estimated Time per Response: 6 minutes.

Estimated Total Annual Burden Hours: 45 hours.

4. Title: Checklists of Filings for Certified Surety and/or Certified Reinsuring Companies and for Admitted Reinsurer Companies.

OMB Control Number: 1530-0061.

Type of Review: Extension without change of a currently approved collection.

Description: This information is collected from insurance companies to assist the Treasury Department in determining acceptability of the companies applying for a Certificate of Authority to write or reinsure Federal surety bonds and/or gain recognition as an Admitted Reinsurer.

Form: Annual Filing Checklist Certified Companies; Annual Filing Checklist Admitted Reinsurers.

Affected Public: Businesses or other for-profit.

Estimated Number of Respondents: 30.

Frequency of Response: On Occasion.

Estimated Total Number of Annual Responses: 30.

Estimated Time per Response: 5 hours.

Estimated Total Annual Burden Hours: 150 hours.

5. Title: Subscription for Purchase and Issue of U.S. Treasury Securities—State and Local Government Series.

OMB Control Number: 1530-0065.

Type of Review: Extension without change of a currently approved collection.

Description: The information is requested to establish and maintain accounts for the owners of securities of the State and Local Government Series.

Form: FS Form 4144; FS Form 4144-1; FS Form 4144-2; FS Form 4144-5; FS Form 4144-6; FS Form 4144-7; FS Form 5377; FS Form 5237; and FS Form 5238.

Affected Public: State and Local Governments.

Estimated Number of Respondents: 6,437.

Frequency of Response: On Occasion.

Estimated Total Number of Annual Responses: 6,437.

Estimated Time per Response: 24 minutes.

Estimated Total Annual Burden Hours: 2,578 hours.

Authority: 44 U.S.C. 3501 et seq.

Dated: October 19, 2021.
Molly Stasko,
Treasury PRA Clearance Officer.

[FR Doc. 2021-23149 Filed 10-22-21; 8:45 am]

BILLING CODE 4810-AS-P